DEPARTMENT OF COMMERCE

[I.D. 011502F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Individual Fishing Quotas for Pacific Halibut and Sablefish in the Alaska Fisheries.

Form Number(s): None.

OMB Approval Number: 0648-0272.

Type of Request: Regular submission.

Burden Hours: 13,249.

Number of Respondents: 6,700.

Average Hours Per Response: 30 minutes for an application for a landing card; 30 minutes for an application for a registered buyer permit; 1 hour for an application for quota share; 4 hours for a letter of appeal; 30 minutes for a beneficiary designation; 2 hours for identification of ownership interest; 30 minutes for an annual update on status of corporation or partnership quota share; 2 hours for an application for a transfer eligibility certificate; 2 hours for an application for transfer of quota share; 30 minutes for an application for replacement of certificates, permits, or cards; 30 minutes for a request for a transaction terminal; 6 minutes for a request for an administrative waiver; 12 minutes for a prior notice of landing; 12 minutes for a landing report; 12 minutes for a vessel clearance; 6 minutes for a departure report; 12 minutes for a transshipment authorization; 18 minutes for a shipment report; and 6 minutes for a dockside sales receipt.

Needs and Uses: The National Marine Fisheries Service collects information for the continued management of the Individual Fishing Quota (IFQ) Program for fixed-gear Pacific halibut and sablefish fisheries off Alaska as well as the Western Alaska Community Development Quota (CDQ) Program halibut fishery. The IFQ program allocates annual total catch limits for the halibut and sablefish fisheries among individual fishermen. The CDQ halibut program allocates annual total catch limits for the halibut fishery among individual CDQ fishermen. Fishermen are assigned Quota Shares (QS) for the fisheries, and then annually receive an IFQ and/or CDQ. Applications and reporting are required to manage and track the program.

Affected Public: Individuals or households, business or other for-profit organizations.

Frequency: Recordkeeping, on occasion, annual.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1397 Filed 1-17-02; 8:45 am]

BILLING CODE 3510-22-S